DEPARTMENT OF LABOR

Employment and Training Administration

[TA-W-72,029]

Automotive Components Holdings, LLC, A Subsidiary of Ford Motor Company, Saline Plant Division, Saline, MI; Notice of Affirmative Determination Regarding Application for Reconsideration

By application sent to this office on April 8, 2010, the United Automobile, Aerospace, and Agricultural Implement Workers of America (UAW), Local 1124, requested administrative reconsideration of the negative determination regarding workers' eligibility to apply for Trade Adjustment Assistance (TAA) applicable to workers and former workers of the subject firm. The determination was issued on February 19, 2010, and the Notice of Determination was published in the Federal Register on March 12, 2010 (75 FR 11925). The workers produce interior automotive components.

The negative determination was based on the findings that neither a significant number nor proportion of workers at the subject facility was totally or partially separated, or threatened with such separation, during the relevant period.

The UAW asserts that the Department has misinterpreted the statute and states that “as many as 830 Visteon workers were notified that they would be replaced” and asserts that about 1,800 workers were employed at the subject firm.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26897 Filed 10-22-10; 8:45 am]

BILLING CODE 4510-FN-P